ENVIRONMENTAL PROTECTION AGENCY

[EPA-HQ-OAR-2021-0427; FRL-10436-01-OAR]

RIN 2060-AV14

Public Hearing for RFS Standards for 2023-2025 and Other Changes

AGENCY: Environmental Protection Agency (EPA).

ACTION: Notification of public hearing.

SUMMARY: The Environmental Protection Agency (EPA) is announcing a virtual public hearing to be held on January 10, 2023, on its proposal for the “Renewable Fuel Standard (RFS) Program: Standards for 2023-2025 and Other Changes,” which was announced on November 30, 2022. An additional session will be held on January 11, 2023, if necessary, to accommodate the number of testifiers that sign-up to testify. EPA is proposing the 2023-2025 renewable fuel standards for cellulosic biofuel, biomass-based diesel, advanced biofuel, and total renewable fuel. EPA is also proposing the second supplemental standard addressing the remand of the 2016 standard-setting rulemaking and several regulatory changes to the RFS program, including regulations governing the generation of qualifying renewable electricity and other modifications intended to improve the program's implementation.

DATES: EPA will hold a virtual public hearing on January 10, 2023. An additional session will be held on January 11, 2023, if necessary, to accommodate the number of testifiers that sign-up to testify. Please refer to the SUPPLEMENTARY INFORMATION section for additional information.

ADDRESSES: The virtual public hearing will begin at 9 a.m. Eastern Time (ET) and end when all parties who wish to speak have had an opportunity to do so, but no later than 5 p.m. ET. All hearing attendees (including even those who do not intend to provide testimony) should register for the public hearing by January 3, 2023. Information on how to register can be found at https://www.epa.gov/renewable-fuel-standard-program/proposed-renewable-fuel-standards-2023-2024-and-2025. Please refer to the SUPPLEMENTARY INFORMATION section for additional information.

FOR FURTHER INFORMATION CONTACT: Nick Parsons, Office of Transportation and Air Quality, Assessment and Standards Division, Environmental Protection Agency, 2000 Traverwood Drive, Ann Arbor, MI 48105; telephone number: (734) 214-4479; email address: RFS-Hearing@epa.gov.

SUPPLEMENTARY INFORMATION: EPA is proposing to establish the 2023-2025 volume targets and corresponding renewable fuel standards for cellulosic biofuel, biomass-based diesel, advanced biofuel, and total renewable fuel. EPA is also proposing the second supplemental standard to address the remand of the 2016 standard-setting rulemaking, as well as several regulatory changes to the Renewable Fuel Standard (RFS) program, including regulations governing the generation of qualifying renewable electricity. The RFS Standards for 2023-2025 and Other Changes proposal was announced on November 30, 2022, and will be published separately in the Federal Register. The pre-publication version is available at https://www.epa.gov/renewable-fuel-standard-program/proposed-renewable-fuel-standards-2023-2024-and-2025.

Participation in virtual public hearing. Information on how to register for the hearing can be found at https://www.epa.gov/renewable-fuel-standard-program/proposed-renewable-fuel-standards-2023-2024-and-2025. The last day to pre-register to speak at the hearing will be January 3, 2023.

Each commenter will have 3 minutes to provide oral testimony. EPA may ask clarifying questions during the oral presentations, but will not respond to the presentations at that time. Written statements and supporting information submitted during the comment period will be considered with the same weight as oral comments and supporting information presented at the public hearing.

Please note that any updates made to any aspect of the hearing will be posted online at https://www.epa.gov/renewable-fuel-standard-program/proposed-renewable-fuel-standards-2023-2024-and-2025. While EPA expects the hearing to go forward as set forth above, please monitor the website or contact the person listed in the FOR FURTHER INFORMATION CONTACT section to determine if there are any updates. EPA does not intend to publish a document in the Federal Register announcing updates.

If you require the services of a translator or special accommodations such as audio description, please pre-register for the hearing and describe your needs by January 3, 2023. EPA may not be able to arrange accommodations without advance notice.

How can I get copies of the proposed action and other related information? EPA has established a docket for this action under Docket ID No. EPA-HQ-OAR-2021-0427. EPA has also developed a website for the RFS program, including the proposal, which is available at https://www.epa.gov/renewable-fuel-standard-program. Please refer to the notice of proposed rulemaking for detailed information on accessing information related to the proposal.

Benjamin Hengst,
Deputy Director, Office of Transportation and Air Quality, Office of Air and Radiation.

[FR Doc. 2022-26943 Filed 12-12-22; 8:45 am]

BILLING CODE 6560-50-P